FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 012093-001.

Title: CSAV/K-Line Space Charter and Sailing Agreement.

Parties: Compania Sud Americana de Vapores and Kawasaki Kisen Kaisha, Ltd.

Filing Parties: Walter H. Lion, Esq.; McLaughlin & Stern, LLP; 260 Madison Avenue; New York, NY 10016.

Synopsis: The amendment adds Greece to the geographic scope of the Agreement and changes the Agreement's name.

Agreement No.: 201211.

Title: Marine Terminal Lease and Operating Agreement between Broward County and H.T. Shipping, Inc., and Hybur Ltd.

Parties: Broward County; H.T. Shipping, Inc.; and Hybur Ltd.

Filing Party: Candace J. Running; Broward County Board of County Commissioners; Office of the County Attorney; 1850 Eller Drive, Suite 502; Fort Lauderdale, FL 33316.

Synopsis: The agreement provides for the lease and operation of terminal facilities at Port Everglades, Florida.

By Order of the Federal Maritime Commission.
Dated: June 10, 2011.
Rachel E. Dickon,
Assistant Secretary.

[FR Doc. 2011-14836 Filed 6-14-11; 8:45 am]

BILLING CODE 6730-01-P